DEPARTMENT OF ENERGY

Federal Energy Regulatory Commission

18 CFR Part 385

[Docket No. RM19-18-000; Order No. 862]

Formal Requirements for Filings in Proceedings Before the Commission

AGENCY: Federal Energy Regulatory Commission, Department of Energy.

ACTION: Final rule; delay of effective date.

SUMMARY: The Federal Energy Regulatory Commission (Commission or FERC) published a final rule on September 4, 2019, to require that hand deliveries of filings and submissions other than by the United States Postal Service be sent to an off-site facility for security screening and processing. The final rule indicated that the new regulation would take effect 60 days after the date of publication in the Federal Register, which is November 4, 2019. After issuance of the final rule, the Commission has determined that the effective date for this new regulation should be indefinitely postponed to ensure that the public and the Commission may make an effective transition to utilizing the off-site facility.

DATES: The effective date of the final rule published on September 4, 2019 (84 FR 46438), is delayed indefinitely.

FOR FURTHER INFORMATION CONTACT: Christopher Cook, Office of the Secretary, 888 First Street NE, Washington, DC 20426, (202) 502-8102, christopher.cook@ferc.gov. Mark Hershfield, Office of the General Counsel, 888 First Street NE, Washington, DC 20426, (202) 502-8597, mark.hershfield@ferc.gov.

SUPPLEMENTARY INFORMATION: On August 29, 2019, the Commission issued a final rule in Docket No. RM19-18-000 revising 18 CFR 385.2001(a) to require that hand deliveries of filings and submissions other than by the United States Postal Service be sent to an off-site facility for security screening and processing.¹ The final rule indicated that the new regulation would take effect 60 days after the date of publication in the Federal Register, which is November 4, 2019.

¹ Formal Requirements for Filings in Proceedings Before the Commission, 84 FR 46438 (Sept. 4, 2019), 168 FERC ¶ 61,120 (2019).

After issuance of the final rule, the Commission has determined that the effective date for this new regulation should be indefinitely postponed to ensure that the public and the Commission may make an effective transition to utilizing the off-site facility. A copy of this notification will be published in the Federal Register and will be prominently placed on the Commission's website (http://www.ferc.gov) to ensure that mail continues to come directly to the Commission's headquarters during this period. A subsequent notification will be issued regarding an effective date for the final rule in Docket No. RM19-18-000.

Dated: October 11, 2019.
Nathaniel J. Davis, Sr.,
Deputy Secretary.

[FR Doc. 2019-22664 Filed 10-16-19; 8:45 am]

BILLING CODE 6717-01-P